COMMISSION ON CIVIL RIGHTS

Sunshine Act Meeting Notice

AGENCY: Commission on the Social Status of Black Men and Boys (CSSBMB), U.S. Commission on Civil Rights.

ACTION: Notice of CSSBMB open discussion.

DATES: Tuesday, March 14, 2023. 1 p.m.-3 p.m. EDT.

ADDRESSES: The Briefing will take place virtually via YouTube: https://www.youtube.com/user/USCCR/videos.

FOR FURTHER INFORMATION CONTACT: Dr. Mark Spencer, pressbmb@usccr.gov; 202-376-7700.

SUPPLEMENTARY INFORMATION: In accordance with Public Law 116-156, 1134 Stat. 700 (2020), the Commission on the Social Status of Black Men and Boys (CSSBMB) will hold an open discussion focused on preventative strategies to mitigate the social disparities of Black men in America.

This briefing is open to the public via livestream on the Commission on Civil Rights' YouTube Page at https://www.youtube.com/user/USCCR/videos. (Streaming information subject to change.) Public participation is available for the event with view access, along with an audio option for listening. Computer assisted real-time transcription (CART) will be provided. The web link to access CART (in English) on Tuesday, March 14, 2023, is https://www.steamtext.net/player?event=USCCR (*subject to change). Please note that CART is text-only translation that occurs in real time during the meeting and is not an exact transcript.

* Date and meeting details are subject to change. For more information on the CSSBMB or the upcoming public briefing, please visit CSSBMB's website at www.usccr.gov/about/CSSBMB.

Briefing Agenda

I. Opening Remarks by CSSBMB Chair, Frederica S. Wilson

II. Call to Order

III. Approval of Agenda

IV. Roundtable Discussion with Expert Panelists *

A. The Honorable Frederica Wilson, Congresswoman (FL-24) and CSSBMB Chair

B. The Honorable Steven Horsford, Congressman (NV-04) and CSSBMB Commissioner (Discussion Moderator)

C. Dr. Sean Joe—Homegrown STL

D. Arohi Pathak—Center for American Progress

E. Dr. Rashawn Ray—The Brookings Institute

F. Other Distinguished Guests

V. Adjourn Discussion

Dated: March 7, 2023.
David Mussatt,
Supervisory Chief, Regional Programs Unit, USCCR.

[FR Doc. 2023-05049 Filed 3-8-23; 11:15 am]

BILLING CODE P